DEPARTMENT OF THE INTERIOR

Bureau of Land Management

[PO #4820000251; Order #02412-014-004-047181.0]

Notice of Filing of Plats of Survey; Arizona

AGENCY: Bureau of Land Management, Interior.

ACTION: Notice of official filing.

SUMMARY: The plats of survey of the following described lands were officially filed in the Bureau of Land Management's (BLM) Arizona State Office, in Phoenix, Arizona on the dates indicated. The surveys announced in this notice are necessary for the management of lands administered by the agencies indicated.

DATES: The BLM must receive protests by July 7, 2025.

ADDRESSES: These plats will be available for inspection in the BLM Arizona State Office, One North Central Avenue, Suite 800, Phoenix, Arizona 85004-4427. Protests of any of these surveys should be sent to the Arizona State Director at this address.

FOR FURTHER INFORMATION CONTACT: R. Reece Henry, Acting Chief Cadastral Surveyor of Arizona; (480) 744-5242; rrhenry@blm.gov. Individuals in the United States who are deaf, blind, hard of hearing, or have a speech disability may dial 711 (TTY, TDD, or TeleBraille) to access telecommunications relay services for contacting Ms. Mathews. Individuals outside the United States should use the relay services offered within their country to make international calls to the point-of-contact in the United States.

SUPPLEMENTARY INFORMATION:

The Gila and Salt River Meridian, Arizona

The supplemental plat, in one sheet, showing the amended lotting in section 5, Township 1 North, Range 5 East, accepted April 8, 2025, and officially filed April 9, 2025, for Group 9120, Arizona.

This plat was prepared at the request of the Salt River Pima-Maricopa Indian Community.

The plat, in six sheets, representing the dependent resurvey of a portion of the south, east and west boundaries, a portion of the subdivisional lines and the metes-and-bounds survey of a portion of the Red Rock Secret Mountain Wilderness boundary, Township 19 North, Range 5 East, accepted December 30, 2024, and officially filed January 7, 2025, for Group 1216, Arizona.

This plat was prepared at the request of the United States Forest Service.

The plat, in two sheets, representing the dependent resurvey of a portion of the north boundary, a portion of the subdivisional lines, a portion of certain mineral surveys, and the dependent resurvey of the metes-and-bounds survey in section 1, the subdivision of certain sections and the metes-and-bounds surveys in certain sections, Township 1 North, Range 8 East, accepted December 30, 2024, and officially filed January 7, 2025, for Group 1229, Arizona.

This plat was prepared at the request of the BLM.

The supplemental plat, in one sheet, showing the amended lotting in section 26, fractional Township 13 North, Range 20 West, accepted April 8, 2025, and officially filed April 9, 2025, for Supplemental Group 9119, Arizona.

The plat, in one sheet, representing the dependent resurvey of a portion of the east boundary of the San Juan de las Boquillas y Nogales Land Grant, and a portion of the south boundary, fractional Township 19 South, Range 21 East, accepted December 30, 2024, and officially filed January 7, 2025, for Group 1233, Arizona.

This plat was prepared at the request of the Bureau of Land Management.

A person or party who wishes to protest against any of these surveys must file a written notice of protest by the date indicated in DATES caption above in this publication with the Arizona State Director, Bureau of Land Management, stating that they wish to protest.

A statement of reasons for a protest may be filed with the notice of protest to the State Director, or the statement of reasons must be filed with the State Director within 30 days after the protest is filed. Before including your address, or other personal information in your protest, please be aware that your entire protest, including your personal identifying information, may be made publicly available at any time. While you can ask us in your comment to withhold your personal identifying information from public review, we cannot guarantee that we will be able to do so.

(Authority: 43 U.S.C. Ch. 3)

Riley R. Henry,
Acting Chief Cadastral Surveyor of Arizona.

[FR Doc. 2025-10182 Filed 6-4-25; 8:45 am]

BILLING CODE 4331-12-P